DEPARTMENT OF TRANSPORTATION

Solicitation of Proposals for Designation of Beyond Traffic Innovation Centers

AGENCY: Office of the Secretary, DOT.

ACTION: Notice of intent to designate Beyond Traffic Innovation Centers.

SUMMARY: Beyond Traffic is the Department of Transportation's (“DOT” or the “Department”) draft 30-year framework for the future (the full report can be found here: https://www.transportation.gov/BeyondTraffic). It lays out key trends that will affect the future of our transportation system. To further this understanding, the DOT is requesting proposals from applicants to form an initial network of multiple centers, focused—through academic activities and programs—on delivering solutions to the challenges outlined in Beyond Traffic. These entities will be designated as “USDOT Beyond Traffic Innovation Centers” and will serve as thought leaders responsible for continuing the conversation surrounding the future of transportation. USDOT Beyond Traffic Innovation Center activities could include identifying possible solutions in their megaregion (Beyond Traffic, p. 25), including but not limited to: Evaluating and researching new technologies relevant to tackling transportation challenges with the megaregion, identification and development of training approaches for the megaregion's future transportation workforce, and convening practitioners, public and private leaders within the megaregion to help identify specific actions that can be taken in the megaregion to address its challenges over the 30 years.

DATES: Proposals must be submitted by 11:59 p.m. EST on December 21, 2016.

ADDRESSES: Final proposals must not exceed 4 pages in length, and must be submitted electronically to: BeyondTraffic@dot.gov.

FOR FURTHER INFORMATION CONTACT: For further information concerning this notice, please contact BeyondTraffic@dot.gov.

SUPPLEMENTARY INFORMATION: The Department is requesting applications to be designated as a USDOT Beyond Traffic Innovation Center. Read this notice in its entirety so that you have all the information you need to determine whether you would like to submit a proposal.

Description: In the enabling legislation that established the DOT, the Secretary of Transportation is vested with the responsibility to report on current and future conditions of our transportation system. With the Nation's transportation system experiencing repeated impacts due to population growth, changes in climate, a stressed freight network, and inaction to address these impacts, such a discourse could not come at a more crucial time. Beyond Traffic 2045: Trends and Choices has been developed by a team of Departmental experts, with input from the public, to conduct a comprehensive examination of our Nation's transportation system. In the fall of 2015, Secretary Foxx and his team travelled to eleven emerging megaregions to solicit feedback on the draft report. Specifically, communities provided feedback on the gaps in opportunity exacerbated by disparities in transportation access and past infrastructure decisions. The designated USDOT Beyond Traffic Innovation Centers will help to continue this conversation in their respective megaregions, including, but not limited to: Evaluating and researching new technologies relevant to tackling transportation challenges with the megaregion, identification and development of training approaches for the megaregion's future transportation workforce, and convening practitioners, public and private leaders with the megaregion to help identify specific actions that can be taken in the megaregion to address its challenges over the 30 years. For this purpose, the DOT is seeking applications from eligible entities that would like to be designated as a USDOT Beyond Traffic Innovation Center. The Centers will form a community of forward-thinking researchers, students, and thought leaders who can help drive our Nation's transportation systems forward by addressing the following questions:

• How will we move? How will we build a transportation system to accommodate a growing population and changing travel patterns?

• How will we move things? How will we reduce freight chokepoints that drive up the cost of owning a business?

• How will we move better? How will we knock down barriers to new technologies that promise to make travel safer and more convenient?

• How will we adapt? How will we make our infrastructure resilient to more frequent catastrophic weather events?

• How will we grow opportunity for all Americans?

• How will we align decisions and dollars, and invest the trillions of dollars our transportation system needs in the smartest way possible?

USDOT Beyond Traffic Innovation Centers will be recognized by the Department of Transportation as forward-thinking and influential institutions that are capable of driving solutions to the challenges identified in Beyond Traffic, through research, curriculum, outreach, and other activities.

Designation Decisions: The Secretary of Transportation will make all designations under this notice. A designation as a USDOT Beyond Traffic Innovation Center is not an award of Federal financial assistance.

Eligibility Information: The following entities are eligible for designation as a USDOT Beyond Traffic Innovation Center. Individuals are not eligible for designation under this notice. The Department actively encourages the inclusion of minority-serving institutions. Eligible entities include:

• U.S. non-profit institutions of higher education as defined under 20 U.S.C. 1001(a). Non-profit institutions of higher education may include qualifying two-year institutions that meet the requirements of 20 U.S.C. 1001(a). This includes existing and future University Transportation Centers and applicants.

• Non-profit organizations described under section 501(c)(3) of the Internal Revenue Code of 1986 (IRC) and exempt from tax under section 501(a) of such code.

Selection Criteria: The Secretary of Transportation will make all designations. Selections will be based on the applicant's submittal in response to the information required immediately below:

Applications must include the following:

• Commitment to continuing the conversation launched by Beyond Traffic, as demonstrated through a clear action plan for furthering these ideas, such as transportation solutions for their megaregion, including, but not limited to: Evaluating and researching new technologies relevant to tackling transportation challenges with the megaregion, identification and development of training approaches for the megaregion's future transportation workforce, and convening practitioners, public and private leaders with the megaregion to help identify specific actions that can be taken in the megaregion to address its challenges over the 30 years. A designated Beyond Traffic Coordinator who will commit to participating in future events related to megaregion development with USDOT must be named as part of the application.

DOT will also consider the following:

• The extent to which the applicant demonstrates the commitment outlined above and administers an established academic or outreach program.

• The capability of the applicant to provide leadership in making national and regional contributions to the conversation around the future of our transportation system.

• The applicant's ability and willingness to maintain a working relationship with the Department's relevant research program offices. The application should describe this proposed relationship, including aspects such as potential participation in conferences, meetings, joint research efforts, and submission of activity reports to the DOT on a routine basis.

• The extent to which the State or locality in which the applicant is located can provide applicable solutions for the broader region and surrounding corridor for improved mobility through the advancement of emerging technologies.

• The demonstrated research and extension resources available to the applicant for carrying out activities and programs as they relate to Beyond Traffic.

Review And Selection Process: DOT will review all applications received by the deadline. The designation review and selection process consists of two phases: Eligibility & Technical Review and Senior Review. In the Eligibility & Technical Review phase, DOT staff will (1) ensure that the applicant is eligible (see Eligibility Information section) and (2) assess the applicant's ability to meet the mandatory criteria and one or more of the other Selection Criteria enumerated above. In the Senior Review phase, which includes senior leadership from DOT, specific applications may be advanced to the Secretary for selection. In making recommendations, the Senior Review team may seek to ensure the inclusion of minority-serving institutions. The Secretary may select from applications advanced by the Senior Review team for designations.

Designation Notice: The Secretary will announce designations by posting a list of USDOT Beyond Traffic Innovation Centers at www.transportation.gov/BeyondTraffic. The Department anticipates that the selection of the initial USDOT Beyond Traffic Innovation Centers will be completed during the first quarter of calendar year 2017. The Department may make additional designations on an annual basis or as deemed appropriate.

Designation Agency Contacts: For further information concerning this notice, please contact the Department via email at BeyondTraffic@dot.gov.

Other Information: All information submitted as part of or in support of any application shall use publicly available data or data that can be made public and methodologies that are accepted by industry practice and standards, to the extent possible. If the application includes information you consider to be a trade secret or confidential commercial or financial information, the applicant should do the following: (1) Note on the front cover that the submission “Contains Confidential Business Information (CBI)”; (2) mark each affected page “CBI”; and (3) highlight or otherwise denote the CBI portions. DOT protects such information from disclosure to the extent allowed under applicable law. In the event DOT receives a Freedom of Information Act (FOIA) request for the information, DOT will follow the procedures described in its FOIA regulations at 49 CFR 7.17. Only information that is ultimately determined to be confidential under that procedure will be exempt from disclosure under FOIA.

Dated: December 6, 2016.
Anthony R. Foxx,
Secretary.

[FR Doc. 2017-00824 Filed 1-13-17; 8:45 am]

BILLING CODE 4910-9X-P